DEPARTMENT OF COMMERCE

International Trade Administration

[A-583-856]

Certain Corrosion-Resistant Steel Products From Taiwan: Amended Final Results of Antidumping Duty Administrative Review; 2016-2017

AGENCY: Enforcement and Compliance, International Trade Administration, Department of Commerce.

SUMMARY: The Department of Commerce is amending the final results of the administrative review of the antidumping duty order on certain corrosion-resistant steel products (CORE) from Taiwan to correct a ministerial error.

DATES: Applicable February 25, 2019.

FOR FURTHER INFORMATION CONTACT: Emily Halle, AD/CVD Operations, Office III, Enforcement and Compliance, International Trade Administration, U.S. Department of Commerce, 1401 Constitution Avenue NW, Washington, DC 20230; telephone: (202) 482-0176.

SUPPLEMENTARY INFORMATION:

Background

On December 17, 2018, the Department of Commerce (Commerce) published its Final Results of the first administrative review of the antidumping duty order on CORE from Taiwan.¹ On December 21, 2018, AK Steel Corporation, the petitioner in this administrative review, submitted comments alleging ministerial errors in Commerce's Final Results.² Commerce exercised its discretion to toll all deadlines affected by the partial federal government closure from December 22, 2018, through the resumption of operations on January 29, 2019.³ The revised deadline for the amended final results decision is now February 25, 2019.

¹ See Certain Corrosion-Resistant Steel Products from Taiwan: Final Results of Antidumping Duty Administrative Review; 2016-2017, 83 FR 64527 (December 17, 2018) (Final Results) and accompanying Issues and Decision Memorandum (IDM).

² See letter from the petitioner, “Certain Corrosion-Resistant Steel Products from Taiwan: Petitioner's Ministerial Error Comments Regarding Yieh Phui and Synn,” dated December 21, 2018 (Ministerial Error Allegation).

³ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁴ With respect to final results, 19 CFR 351.224(e) provides that Commerce “will analyze any comments received and, if appropriate, correct any ministerial error by amending . . . the final results of review . . . .”

⁴ See also 19 CFR 351.224(f).

Amendment to Final Results

Commerce committed an inadvertent error within the meaning of section 735(e) of the Act and 19 CFR 351.224(f) ⁵ with respect to the U.S credit expense calculation for Yieh Phui Enterprise Co., Ltd. (YP) and Synn Industrial Co., Ltd. (Synn) (collectively, YP/Synn).⁶ Therefore, pursuant to 19 CFR 351.224(e), Commerce is amending the Final Results to reflect the correction of this ministerial error in the calculation of the final margin assigned to YP/Synn, which changes from 2.22 percent to 2.24 percent.⁷ Furthermore, we are revising the review-specific average rate applicable to Chung Hung Steel Corporation, which was not selected for individual examination in this administrative review, as it was based, in part, on the weighted-average dumping margin assigned to YP/Synn.

⁵ Id.

⁶ See memorandum, “Ministerial Error Memorandum for the Final Results of the 2016-2017 Antidumping Duty Administrative Review of Certain Corrosion-Resistant Steel Products from Taiwan,” signed concurrently with this notice.

⁷ See memorandum, “Amended Final Results Calculations for YP/Synn,” dated concurrently with this decision.

Amended Final Results of the Review

We determine that, for the period of June 2, 2016, through June 30, 2017, the following weighted-average dumping margins exist:

⁸ This rate is based on the rates for the respondents that were selected for individual review, excluding rates that are zero, de minimis or based entirely on facts available. See section 735(c)(5)(A) of the Act.

Exporter/producer | Weighted- average dumping margin (percent)
Chung Hung Steel Corporation | ⁸ 2.60
Yieh Phui Enterprise Co., Ltd. and Synn Industrial Co., Ltd | 2.24

Disclosure

We intend to disclose the calculation performed for these amended final results in accordance with 19 CFR 351.224(b).

Antidumping Duty Assessment

Commerce shall determine, and U.S. Customs and Border Protection (CBP) shall assess, antidumping duties on all appropriate entries covered by this review.

In accordance with Commerce's “automatic assessment” practice, for entries of subject merchandise during the POR produced by YP/Synn for which it did not know that the merchandise was destined for the United States, we will instruct CBP to liquidate those entries at the all-others rate if there is no rate for the intermediate company(ies) involved in the transaction.

We intend to issue instructions to CBP 15 days after the publication date of the final results of this review.

Cash Deposit Requirements

The following cash deposit requirements will be effective retroactively for all shipments of subject merchandise entered, or withdrawn from warehouse, for consumption on or after the December 17, 2018, the date of publication of the Final Results of this administrative review, as provided for by section 751(a)(2)(C) of the Act: (1) The cash deposit rate for YP/Synn and Chung Hung will be equal to the weighted-average dumping margins established in these amended final results of review; (2) for previously reviewed or investigated companies, including those for which Commerce may have determined they had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the “all-others” rate of 10.34 percent established in the less-than-fair-value investigation.⁹ These deposit requirements, when imposed, shall remain in effect until further notice.

⁹ See Certain Corrosion-Resistant Steel Products from India, Italy, the People's Republic of China, the Republic of Korea and Taiwan: Amended Final Affirmative Antidumping Determination for India and Taiwan, and Antidumping Duty Orders, 82 FR 48390 (July 25, 2016).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Administrative Protective Order

This notice also serves as a reminder to parties' subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with section 735(e) of the Act and 19 CFR 351.224(e) and (f).

Dated: February 19, 2019.
Gary Taverman,
Deputy Assistant Secretary for Antidumping and Countervailing Duty Operations, performing the non-exclusive functions and duties of the Assistant Secretary for Enforcement and Compliance.

[FR Doc. 2019-03130 Filed 2-22-19; 8:45 am]

BILLING CODE 3510-DS-P